DEPARTMENT OF THE TREASURY

Submission for OMB Review; Comment Request

October 18, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 25, 2005.

Internal Revenue Service (IRS)

OMB Number: 1545-0016.

Type of Review: Revision.

Title: Treasury International Capital Form BQ-1, “Report of Customers’ U.S. Dollar Claims on Foreigners”.

Form: International Capital Form BQ-1.

Description: Form BQ-1 is required by law and is designed to collect timely information on international portfolio capital movements, including U.S. dollar claims of customers of depository institutions, bank and financial holding companies, brokers and dealers vis-à-vis foreigners. The information is necessary in the computation of the U.S. balance of payments accounts and the U.S. international investment position, and in the formulation of U.S. international financial and monetary policies.

Respondents: Business or other for-profit.

Estimated Total Burden Hours: 909 hours.

OMB Number: 1545-0017.

Type of Review: Revision.

Title: Treasury International Capital Form BC/BC (SA) “Report of U.S. Dollar Claims of Depository Institutions, Brokers and Dealers on Foreigners”.

Form: International Capital Form BC/BC (SA).

Description: Form BC/BC(SA) is required by law and is designed to collect timely information on international portfolio capital movements, including own U.S. dollar claims of depository institutions, bank and financial holding companies, brokers and dealers vis-à-vis foreigners. The information is necessary in the computation of the U.S. balance of payments accounts and the U.S. international investment position, and in the formulation of U.S. international financial and monetary policies.

Respondents: Business or other for-profit.

Estimated Total Burden Hours: 33,804 hours.

OMB Number: 1545-0018.

Type of Review: Revision.

Title: Treasury International Capital Form BL-2/BL-2(SA) “Report of Customers’ U.S. Dollar Liabilities to Foreigners”.

Form: International Capital Form BL-2/BL-2(SA).

Description: Form BL-2/BL-2(SA) is required by law and is designed to collect timely information on international portfolio capital movements, including U.S. dollar liabilities of customers of depository institutions, bank and financial holding companies, brokers and dealers vis-á-vis foreigners. The information is necessary in the computation of the U.S. balance of payments accounts and the U.S. international investment position, and in the formulation of U.S. international financial and monetary policies.

Respondents: Business or other for-profit.

Estimated Total Burden Hours: 9,000 hours.

OMB Number: 1545-0019.

Type of Review: Revision.

Title: Treasury International Capital Form BL-1/BL-1(SA) “Report of U.S. Dollar Liabilities of Depository Institutions, Brokers and Dealers to Foreigners”.

Form: International Capital Form BL-1/BL-1(SA).

Description: Form BL-1/BL-1(SA) is required by law and is designed to collect timely information on international portfolio capital movements, including U.S. dollar liabilities of depository institutions, bank and financial holding companies, brokers and dealers vis-á-vis foreigners. The information is necessary in the computation of the U.S. balance of payments accounts and the U.S. international investment position, and in the formulation of U.S. international financial and monetary policies.

Respondents: Business or other for-profit.

Estimated Total Burden Hours: 31,278 hours.

OMB Number: 1545-0020.

Type of Review: Revision.

Title: Treasury International Capital Form BQ-2 “Part 1—Report of Foreign Currency Liabilities and Claims of Depository Institutions, Brokers and Dealers, and of their Domestic Customers vis-á-vis Foreigners; Part 2—Report of Customers' Foreign Currency Liabilities to Foreigners”.

Form: International Capital Form BQ-2.

Description: Form BQ-2 is required by law and is designed to collect timely information on international portfolio capital movements, including liabilities and claims of depository institutions, bank and financial holding companies, brokers and dealers and their customers' liabilities vis-á-vis foreigners, that are denominated in foreign currencies. The information is necessary in the computation of the U.S. balance of payments accounts and the U.S. international investment position, and in the formulation of U.S. international financial and monetary policies.

Respondents: Business or other for-profit.

Estimated Total Burden Hours: 3,564 hours.

OMB Number: 1545-0024.

Type of Review: Revision.

Title: Treasury International Capital Form CQ-1 “Report of Financial Liabilities to and Financial Claims on Foreign Residents” and Form CQ-2 “Report of Commercial Liabilities to, and Commercial Claims on Unaffiliated Foreign Residents”.

Form: International Capital Form CQ1 and CQ-2.

Description: Forms CQ-1 and CQ-2 are required by law to collect timely information on international portfolio capital movements, including data on financial and commercial liabilities to, and claims on unaffiliated foreigners and certain affiliated foreigners held by non-banking enterprises in the U.S. This information is necessary in the computation of the U.S. balance of payments accounts and the U.S. international investment position, and in the formulation of U.S. international financial and monetary policies.

Respondents: Business or other for-profit.

Estimated Total Burden Hours: 5,746 hours.

OMB Number: 1545-0149.

Type of Review: Extension.

Title: 31 CFR Part 128 Reporting of International Capital and Foreign Currency Transactions and Positions.

Description: 31 CFR Part 128 establishes general guidelines for reporting on U.S. claims on and liabilities to, foreigners; on transactions in securities with foreigners; and on monetary reserves of the U.S. It also establishes guidelines for reporting on the foreign currency transactions of U.S. persons. It includes a recordkeeping requirement in section 128.5.

Respondents: Business or other for-profit.

Estimated Total Burden Hours: 4,950 hours.

OMB Number: 1545-0189.

Type of Review: Extension.

Title: Treasury International Capital Form BQ-3 “Report of Maturities of Selected Liabilities of Depository Institutions, Brokers and Dealers to Foreigners.

Form: International Capital Form BQ-3.

Description: Form BQ-3 is required by law and is designed to collect timely information on international portfolio capital movements, including maturities of selected U.S. dollar and foreign currency liabilities of depository institutions, bank and financial holding companies, brokers and dealers to foreigners. This information is necessary in the computation of the U.S. balance of payments accounts and the U.S. international investment position and in the formulation of U.S. international financial and monetary policies.

Respondents: Business or other for-profit.

Estimated Total Burden Hours: 1,312 hours.

Clearance Officer: Dwight Wolkow, (202) 622-1276, Department of Treasury, Room 4410-1440NYA, 1500 Pennsylvania Avenue, NW., Washington, DC 20220.

OMB Reviewer: Alexander T. Hunt, (202) 395-7316, Office of Management and Budget, Room 10235, New Executive Office Building, Washington, DC 20503.

Michael A. Robinson,
Treasury PRA Clearance Officer.

[FR Doc. 05-21307 Filed 10-24-05; 8:45 am]

BILLING CODE 4810-25-P